SURFACE TRANSPORTATION BOARD

[Docket No. AB 290 (Sub-No. 420X)]

Norfolk Southern Railway Company—Abandonment Exemption—in the City of Baltimore, Md.

Norfolk Southern Railway Company (NSR) has filed a verified notice of exemption (NOE) under 49 CFR part 1152 subpart F—Exempt Abandonments to abandon its freight rail easement over an approximately one-mile rail line extending from milepost UU 0.00 +/− to milepost UU 1.00 +/− in the City of Baltimore, Md. (the Line). The Line traverses U.S. Postal Service Zip Codes 21201 and 21211.

According to the verified notice, the Maryland Transit Administration (MTA) owns the portion of the Line from milepost UU 0.50 +/− to milepost UU 1.00 +/−,¹ and the National Railroad Passenger Corporation (Amtrak) owns the portion of the Line from milepost UU 0.00 +/− to milepost UU 0.50 +/− but NSR retained the “freight operating easement, rights and operations” for the Line. NSR states that because neither MTA nor Amtrak have a residual common carrier obligation to provide rail freight service over the Line, the entire common carrier obligation of any rail carrier or party to provide freight service over the Line will be extinguished with the abandonment of the freight operating rights. NSR further states that MTA's passenger services will continue after NSR abandons its easement and, therefore, the corridor is not available for alternative public use(s) and that it does not intend to negotiate for trail use/railbanking.

¹ MTA currently operates light rail transit service over the Line. The Board previously determined that MTA did not require authorization from the Board's predecessor when MTA acquired the Line in 1990 and that MTA had not become a common carrier on the Line. See Md. Transit Admin.—Pet. for Declaratory Ord., FD 34975, slip op. at 7-8 (STB served Oct. 9, 2007).

NSR has certified that: (1) no local freight traffic has moved over the Line for at least two years; (2) any overhead traffic on the Line can be rerouted over other lines; (3) no formal complaint filed by a user of rail service on the Line (or by a state or local government on behalf of such user) regarding cessation of service over the Line is pending with either the Surface Transportation Board (Board) or any U.S. District Court or has been decided in favor of a complainant within the two-year period; and (4) the requirements at 49 CFR 1105.7(b) and 1105.8(c) (notice of environmental and historic reports), 49 CFR 1105.12 (newspaper publication), and 49 CFR 1152.50(d)(1) (notice to government agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,² this exemption will be effective on January 22, 2026, unless stayed pending reconsideration. Petitions to stay that do not involve environmental issues,³ formal expressions of intent to file an OFA under 49 CFR 1152.27(c)(2), and interim trail use/railbanking requests under 49 CFR 1152.29 must be filed by January 2, 2026.⁴ Petitions to reopen and requests for public use conditions under 49 CFR 1152.28 must be filed by January 12, 2026.⁵

² Persons interested in submitting an OFA must first file a formal expression of intent to file an offer, indicating the type of financial assistance they wish to provide (i.e., subsidy or purchase) and demonstrating that they are preliminarily financially responsible. See 49 CFR 1152.27(c)(2)(i).

³ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁴ Filing fees for OFAs and trail use requests can be found at 49 CFR 1002.2(f)(25) and (27), respectively.

⁵ NSR previously filed a verified NOE to abandon the Line on October 31, 2024, in Docket No. AB 290 (Sub-No. 412X). Notice of the exemption was served and published in the Federal Register on November 20, 2024 (89 FR 91869). On December 6, 2024, NSR requested permission to withdraw its NOE to resolve certain real estate and other issues. Prior to NSR's request to withdraw its NOE, James Riffin filed a notice of intent to file an OFA to purchase the Line. The Acting Director of the Office of Proceedings (now, the Office of Chief Counsel) granted NSR's request to withdraw its NOE and dismissed the proceeding without prejudice to NSR seeking authority to abandon the Line in the future. Norfolk S. Ry.—Aban. Exemption—in Balt. City, Md., AB 290 (Sub-No. 412X) (STB served Dec. 9, 2024). By decision served April 14, 2025, the Board construed a submission by Riffin as a request to reopen the Acting Director's decision and denied that request. Norfolk S. Ry.—Aban. Exemption—in Balt. City, Md., AB 290 (Sub-No. 412X) (STB served Apr. 14, 2025). Riffin's challenge to the decisions before the U.S. Court of Appeals for the District of Columbia Circuit remains pending. Riffin v. STB, Nos. 24-1385 & 25-1141 (consol.) (D.C. Cir.). Given the pending litigation, if necessary, the Board will address further the effective date of this notice in a subsequent decision.

All pleadings, referring to Docket No. AB 290 (Sub-No. 420X), must be filed with the Surface Transportation Board either via e-filing on the Board's website or in writing addressed to 395 E Street SW, Washington, DC 20423-0001. In addition, a copy of each pleading must be served on NSR's representative, William A. Mullins, Mullins Law Group PLLC, 2001 L St. NW, Suite 720, Washington, DC 20036.

If the verified notice contains false or misleading information, the exemption is void ab initio.

NSR has filed a combined environmental and historic report that addresses the potential effects, if any, of the abandonment on the environment and historic resources. OEA will issue a Draft Environmental Assessment (Draft EA) by December 26, 2025. The Draft EA will be available to interested persons on the Board's website, by writing to OEA, or by calling OEA at (202) 245-0294. If you require an accommodation under the Americans with Disabilities Act, please call (202) 245-0245. Comments on environmental or historic preservation matters must be filed within 15 days after the Draft EA becomes available to the public.

Environmental, historic preservation, public use, or trail use/rail banking conditions will be imposed, where appropriate, in a subsequent decision.

Pursuant to the provisions of 49 CFR 1152.29(e)(2), NSR shall file a notice of consummation with the Board to signify that it has exercised the authority granted and fully abandoned the Line. If consummation has not been effected by NSR's filing of a notice of consummation by December 23, 2026, and there are no legal or regulatory barriers to consummation, the authority to abandon will automatically expire.

Board decisions and notices are available at www.stb.gov.

Decided: December 18, 2025.
By the Board, Anika S. Cooper, Chief Counsel, Office of Chief Counsel.
Tammy Lowery,
Clearance Clerk.

[FR Doc. 2025-23648 Filed 12-22-25; 8:45 am]

BILLING CODE 4915-01-P